NUCLEAR REGULATORY COMMISSION

[ NRC-2009-0353]

Final Regulatory Guide: Issuance, Availability

AGENCY: Nuclear Regulatory Commission.

ACTION: Notice of Issuance and Availability of Regulatory Guide (RG) 5.80, “Pressure-Sensitive and Tamper-Indicating Device Seals for Material Control and Accounting of Special Nuclear Material.”

FOR FURTHER INFORMATION CONTACT: Mekonen M. Bayssie, U.S. Nuclear Regulatory Commission, Washington, DC 20555-0001, telephone: 301-251-7489 or e-mail: Mekonen.Bayssie@nrc.gov.

SUPPLEMENTARY INFORMATION:

I. Introduction

The U.S. Nuclear Regulatory Commission (NRC or Commission) is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses.

Regulatory Guide 5.80, “Pressure-Sensitive and Tamper-Indicating Device Seals for Material Control and Accounting of Special Nuclear Material,” was issued with a temporary identification as Draft Regulatory Guide, DG-5029. This regulatory guide replaces the existing RG 5.10, “Selection and Use of Pressure-Sensitive Seals on Containers for Onsite Storage of Special Nuclear Material,” issued July 1973, and the existing RG 5.15, “Tamper-Indicating Seals for the Protection and Control of Special Nuclear Material,” issued March 1997, with a new regulatory guide titled, “Pressure-Sensitive and Tamper-Indicating Device Seals for MC&A Use.” As a replacement, this guide describes a number of improved tamper-indicating devices (TIDs) and pressure-sensitive (PS) seals developed in recent years, primarily in response to commercial interests outside the nuclear industry. This guide, among other things, distinguishes between genuine and nongenuine manufactured seals and stresses serial number identification to aid in the control of material or to alert shipping and receiving personnel to containers that were opened in transit. This guide also incorporates suggestions for ensuring that TIDs are properly applied.

II. Further Information

In June 2009, DG-5029 was published with a public comment period of 60 days from the issuance of the guide. The public comment period closed on October 13, 2009. The staff's responses to the public comments received can be located in the NRC's Agencywide Documents Access and Management System (ADAMS) under Accession Number ML101810238. The regulatory analysis may be found in ADAMS under Accession Number ML101800517. Electronic copies of RG 5.80 are available through the NRC's public Web site under “Regulatory Guides” at http://www.nrc.gov/reading-rm/doc-collections/.

In addition, regulatory guides are available for inspection at the NRC's Public Document Room (PDR) located at 11555 Rockville Pike, Rockville, Maryland. The PDR's mailing address is USNRC PDR, Washington, DC 20555-0001. The PDR can also be reached by telephone at 301-415-4737 or 1-800-397-4205, by fax at 301-415-3548, and by e-mail to pdr.resource@nrc.gov.

Regulatory guides are not copyrighted, and Commission approval is not required to reproduce them.

Dated at Rockville, Maryland, this 10th day of December, 2010.
For the Nuclear Regulatory Commission.
John N. Ridgely,
Acting Chief, Regulatory Guide Development Branch, Division of Engineering, Office of Nuclear Regulatory Research.

[FR Doc. 2010-31729 Filed 12-16-10; 8:45 am]

BILLING CODE 7590-01-P